DEPARTMENT OF THE INTERIOR

National Park Service

Notice of Inventory Completion for Native American Human Remains in the Possession of the Minnesota Indian Affairs Council, Bemidji, MN

AGENCY: National Park Service, Interior.

ACTION: Notice.

Notice is hereby given in accordance with provisions of the Native American Graves Protection and Repatriation Act (NAGPRA), 43 CFR 10.9, of the completion of an inventory of human remains in the possession of the Minnesota Indian Affairs Council, Bemidji, MN.

This notice is published as part of the National Park Service’s administrative responsibilities under NAGPRA, 43 CFR 10.2 (c). The determinations within this notice are the sole responsibility of the museum, institution, or Federal agency that has control of these Native American human remains and associated funerary objects. The National Park Service is not responsible for the determinations within this notice.

A detailed assessment of the human remains was made by the Minnesota Indian Affairs Council professional staff in consultation with representatives of the Crow Tribe of Montana.

Prior to 1920, human remains representing two individuals were removed from an unknown site in the Big Horn Valley, MT. Robert Somerville donated the human remains to the Minnesota Historical Society in 1920. Accession records indicate that the human remains were removed from “an Indian cemetery in the Big Horn Valley.” No known individuals were identified. No associated funerary objects are present. In 1987, these human remains were transferred to the Minnesota Indian Affairs Council pursuant to provisions of Minnesota statute 307.08.

Other donations from Mr. Somerville to the Minnesota Historical Society indicate that these human remains may have been collected in the vicinity of St. Xavier Mission, MT. The St. Xavier Mission ministered to the Crow Indians and is believed to have had an adjacent cemetery. St. Xavier Mission is located within the aboriginal territory of the Crow Indians as determined by the Unites States Indian Claims Commission.

Based on the above-mentioned information, officials of the Minnesota Indian Affairs Council have determined that, pursuant to 43 CFR 10.2 (d)(1), the human remains described above represent the physical remains of two individuals of Native American ancestry. Officials of the Minnesota Indian Affairs Council also have determined that, pursuant to 43 CFR 10.2 (e), there is a relationship of shared group identity that can be reasonably traced between these Native American human remains and the Crow Tribe of Montana.

This notice has been sent to officials of the Crow Tribe of Montana. Representatives of any other Indian tribe that believes itself to be culturally affiliated with these human remains should contact James L. (Jim) Jones Jr., Cultural Resource Specialist, Minnesota Indian Affairs Council, 1819 Bemidji Avenue, Bemidji, MN 56601, telephone (218) 755-3182, before October 11, 2002. Repatriation of these human remains to the Crow Tribe of Montana may begin after that date if no additional claimants come forward.

Dated: August 13, 2002.
Robert Stearns,
Manager, National NAGPRA Program.

[FR Doc. 02-23016 Filed 9-10-02; 8:45 am]

BILLING CODE 4310-70-S